DEPARTMENT OF JUSTICE

Notice of Lodging of Proposed Consent Decree Under the Comprehensive Environmental Response, Compensation, and Liability Act (“CERCLA”)

On August 21, 2023, the Department of Justice lodged a proposed consent decree with the United States District Court for the District of New Jersey in the lawsuit entitled United States of America v. TCI Pacific Communications, LLC, Civil Action No. 2:23-cv-06076. The United States seeks reimbursement of response costs under section 107 of the Comprehensive Environmental Response, Compensation, and Liability Act (“CERCLA”) in connection with the Barth Smelting Corporation Site located in the City of Newark, Essex County, New Jersey. Under the proposed consent decree, the Settling Defendant (TCI Pacific Communications, LLC) agrees to pay the United States $950,000 to resolve the United States' claim for past response costs arising from a removal action by the Environmental Protection Agency to address lead-contaminated soil at the Site.

The publication of this notice opens a period for public comment on the proposed consent decree. Comments should be addressed to the Assistant Attorney General, Environment and Natural Resources Division, Environmental Enforcement Section, and should refer to United States of America v. TCI Pacific Communications, LLC, Civil Action No. 2:23-cv-06076, D.J. Ref. No. 90-11-3-12493. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $4.25 (25 cents per page reproduction cost), for the consent decree with appendix payable to the United States Treasury.

Henry S. Friedman,
Assistant Section Chief, Environmental Enforcement Section, Environment and Natural Resources Division.

[FR Doc. 2023-18295 Filed 8-24-23; 8:45 am]

BILLING CODE 4410-15-P